DEPARTMENT OF LABOR

Employment and Training Administration

[TA-W-53,451]

EDM Corporation, Piqua, Ohio; Notice of Termination of Investigation

Pursuant to section 221 of the Trade Act of 1974, as amended, an investigation was initiated on November 5, 2003, in response to a petition filed by a company official on behalf of workers at EDM Corporation, Piqua, Ohio.

The petitioner has requested that the petition be withdrawn. Consequently, the investigation has been terminated.

Signed at Washington, DC, this 10th day of November, 2003.
Linda G. Poole,
Certifying Officer, Division of Trade Adjustment Assistance.

[FR Doc. 03-29676 Filed 11-26-03; 8:45 am]

BILLING CODE 4510-30-P